DEPARTMENT OF HEALTH AND HUMAN SERVICES

Centers for Disease Control and Prevention

Notice of Award of a Single-Source Cooperative Agreement to Fund the Association of University Centers on Disability

AGENCY: Centers for Disease Control and Prevention (CDC), Department of Health and Human Services (HHS).

ACTION: Notice.

SUMMARY: The Centers for Disease Control and Prevention (CDC), located within the Department of Health and Human Services (HHS) announces the award of approximately $3,190,000 in coronavirus disease 2019 (COVID-19) funding in response to an unsolicited application that has been submitted by the Association of University Centers on Disability (AUCD) to address vaccine hesitancy among people with disabilities, their families and direct support professionals.

DATES: The period for this award will be September 30, 2021 through September 29, 2022.

FOR FURTHER INFORMATION CONTACT: Carlinda Nelson, National Center on Birth Defects and Developmental Disabilities, Centers for Disease Control and Prevention, 4770 Buford Highway, MS E-88, Atlanta, GA 30341, Telephone: 800-232-6348.

SUPPLEMENTARY INFORMATION: The single-source award will address vaccine hesitancy and accessibility among people with disabilities, their families, and direct support professionals who provide care for people with disabilities.

This award is being made non-competitively because there is no current, pending, or planned funding opportunity announcement under which this proposal could compete.

AUCD will be awarded a single-source cooperative agreement because of their specific experience and capacity to rapidly organize a national network of interdisciplinary disability partners as well as their leadership of a national disability preparedness initiative led by individuals with disabilities and disability subject matter experts.

AUCD leads the Prepared4ALL initiative and National Technical Assistance and Training Center on Disability Inclusion in Emergency Preparedness, which reaches a broad range of individuals with disabilities in states, cities and communities. This funding mechanism and partnership will support national disability and direct support professional organizations to address vaccination barriers and build vaccine confidence among people with disabilities and their caregivers who have not yet received a COVID-19 vaccine. AUCD is uniquely qualified to support this work because of their breadth of partnerships with disability organizations who have state-wide, disability and disability-serving networks as well as their already established connections to national, state, and local health authorities on development and implementation of strategies to improve vaccine access and build confidence within communities for people with disabilities.

Summary of the Award

Recipient: Association of University Centers on Disability (AUCD)

Purpose of the Award: The purpose of this award is to identify people with disabilities, their families and family caregivers, and their direct support professionals that remain unvaccinated against COVID-19 and focus on interpersonal engagement and unique and innovative strategies to reduce hesitancy and improve vaccine uptake in these individuals. The recipient will be expected to work with a range of national disability and direct support professional organizations to train known and trusted vaccination champions to increase interpersonal communication with trusted and familiar messengers within disability networks, as well as develop culturally relevant, accessible, easy-to-read and understand communication resources on COVID-19 vaccination.

Amount of Award: $3,190,000 in Federal Fiscal Year (FFY) 2021 funds for a one-year period of performance, subject to availability of funds.

Authority: 42 U.S.C. 247b-8 and Public Law 116-260, Division M, Title III.

Period of Performance: September 30, 2021 through September 29, 2022.

Dated: August 20, 2021.
Joseph I. Hungate III,
Deputy Director, Office of Financial Resources, Office of the Chief Operating Officer, Centers for Disease Control and Prevention.

[FR Doc. 2021-18324 Filed 8-24-21; 8:45 am]

BILLING CODE 4163-18-P